DEPARTMENT OF HEALTH AND HUMAN SERVICES

Administration for Children and Families

Proposed Information Collection Activity; Comment Request

Title: Federal Strategic Action Plan on Services for Victims of Human Trafficking: Enhancing the Health Care System's Response to Human Trafficking

OMB No.: New Collection

Description:

In 2013, the U.S. Department of Health and Human Services co-chaired an inter-agency process with the Departments of Justice and Homeland Security to create the first Federal Strategic Action Plan on Services for Victims of Human Trafficking in the United States. The Plan addresses the needs for the implementation of coordinated, effective, culturally appropriate and trauma informed care for victims of human trafficking. The purpose of this initiative is to develop a pilot training project that will strengthen the health systems' response to human trafficking in four key ways

1. Increase knowledge about human trafficking among health care providers;

2. Build the capacity of health care providers to deliver culturally appropriate and trauma-informed care to victims of human trafficking;

3. Increase the identification of victims of human trafficking; and

4. Increase services to survivors of human trafficking.

The evaluation will measure immediate outcomes, e.g., from pre-intervention to post-intervention, as well as intermediate outcomes at a 3 month post intervention.

Respondents:

The target audience for training and evaluation will be 200 health care providers from hospitals, clinics, and private health practices. The health care providers will be from federal, state/territorial, and local health departments, the Veterans' Administration, professional associations, and tribal institutions.

Annual Burden Estimates
Instrument | Number of respondents | Number of responses per respondent | Average burden hours per response | Total burden hours
Pre-training survey | 200 | 1 | 0.40 | 80.00
Post-training survey | 200 | 1 | 0.40 | 80.00
Email Follow-up | 200 | 1 | 0.40 | 80.00
Telephone Follow-up | 40 | 1 | 0.40 | 16.00
|  |  |  | 256.00

Estimated Total Annual Burden Hours: 256

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2014-05824 Filed 3-17-14; 8:45 am]

BILLING CODE 4184-01-P